DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Evaluation of Universal Newborn Hearing Screening and Intervention Program—(NEW)

The purpose of the universal newborn hearing screening and intervention evaluation project is to describe the efficacy, or lack thereof, of a national program to assure that all newborn infants are screened for hearing loss before discharge from the newborn nursery, and that those infants who do not pass the initial screening procedures have timely and appropriate follow-up, defined as audiologic diagnosis by three months of age and enrollment in a program of early intervention before 6 months of age. Program goals of linking every child with a known or suspected hearing loss with a medical home, that is a provider of continuous and comprehensive primary pediatric care, and linkage of families of infants with a hearing loss to a source of family to family support will also be assessed. In addition to a survey tool to be administered in all States, additional data will be collected during site visits to 10-12 selected States. Results of the evaluation will include recommendations to the program office for further assisting the States in fully accomplishing program goals.

Form | Number of respondents | Responses per respondent | Total responses | Minutes per response | Total burden hours
Telephone interviews | 57 States and Jurisdictions | 1 | 57 | 30 | 28.5
Site Visits | 12 States/Jurisdictions | Up to 6 | 72 | 60 | 72.0

Send comments to Susan G. Queen, Ph.D., HRSA Reports Clearance Officer, Room 14-45, Parklawn Building, 5600 Fishers Lane, Rockville, MD 20857. Written comments should be received within 60 day of this notice.

Dated: March 3, 2005.
Tina M. Cheatham,
Director, Division of Policy Review and Coordination.

[FR Doc. 05-4876 Filed 3-10-05; 8:45 am]

BILLING CODE 4165-15-P